DEPARTMENT OF STATE

[Public Notice: 11446]

Notice of Department of State—Delisting Sanctioned Entities

SUMMARY: The Secretary of State has determined to terminate the sanctions that were imposed, pursuant to Executive Order (E.O.) 13846, on Aoxing Ship Management (Shanghai) Ltd and Sea Charming Shipping Company Limited and remove those entities from the List of Specially Designated Nationals and Blocked Persons (SDN List) maintained by the Department of the Treasury's Office of Foreign Assets Control (OFAC).

DATES: The Secretary of State's determination and selection of certain sanctions to be imposed upon the two entities identified in the SUPPLEMENTARY INFORMATION section was effective as of March 18, 2020. The Secretary of State's subsequent termination of sanctions with respect to those entities was effective as of June 10, 2021.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: On June 10, 2021, the Secretary of State determined that the sanctions that had been imposed with respect to Aoxing Ship Management (Shanghai) Ltd and Sea Charming Shipping Company Limited on March 18, 2020 pursuant to section 3(a)(iii) of E.O. 13846 were terminated as of June 10, 2021. Accordingly, Aoxing Ship Management (Shanghai) Ltd and Sea Charming Shipping Company Limited are being removed from the SDN List.

Peter Haas,
Acting Assistant Secretary, Bureau of Economic and Business Affairs, Department of State.

[FR Doc. 2021-13241 Filed 6-23-21; 8:45 am]

BILLING CODE 4710-AE-P